CIVIL RIGHTS COMMISSION

Sunshine Act Notice

AGENCY: U.S. Commission on Civil Rights.

DATE AND TIME: Friday, December 10, 2004, 9:30 a.m.

PLACE: U.S. Commission on Civil Rights, 624 9th Street, NW., Room 540, Washington, DC 20425.

STATUS: The previously scheduled Commission meeting for December 10, 2004 is canceled.

CONTACT PERSON FOR FURTHER INFORMATION: Les Jin, Press and Communications (202) 376-7700.

Debra A. Carr,
General Counsel.

[FR Doc. 04-27001 Filed 12-3-04; 3:59 p.m]

BILLING CODE 6335-0-M